DEPARTMENT OF ENERGY

[OE Docket No. EA-281-C]

Application to Export Electric Energy; Manitoba Hydro

AGENCY: Office of Electricity, Department of Energy.

ACTION: Notice of application.

SUMMARY: Manitoba Hydro (Applicant or Manitoba Hydro) has applied for authorization to transmit electric energy from the United States to Canada pursuant to the Federal Power Act.

DATES: Comments, protests, or motions to intervene must be submitted on or before September 21, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On November 17, 2010 DOE issues Order EA-281-B, which authorized Manitoba Hydro to transmit electric energy from the United States to Canada for a ten-year term using existing international transmission facilities appropriate for open access. This authorization expires on November 17, 2020. On July 2, 2020, Manitoba Hydro filed an application with DOE (Application or App.) for renewal of the export authorization contained in Order No. EA-281-B.

Manitoba Hydro states that it “is a Canadian Crown Corporation created pursuant to The Manitoba Hydro Act.” App. at 1. Manitoba Hydro adds that it “does not own, control or operate any generation, transmission or other facilities in the United States.” Id.

Manitoba Hydro further states that it “will purchase the power to be exported from electric utilities and federal power marketing agencies as those terms are defined in Sections 3(22) and 3(19) of the Federal Power Act [FPA].” App. at 5. Manitoba Hydro contends that “such power is surplus to the system of the generator and this will not impair the sufficiency of the electric power system within the United States.” Id. Further, “nor will moving the energy through the border systems and across the border to Canada impair the United States electric power supply system or impede coordinated use of regional facilities.” App. at 5-6.

Manitoba Hydro agrees “it will abide by the export limits contained in the relevant [proposed] export authorization for such facilities.” App. at 6. Manitoba Hydro contends it will not impede or tend to impede the coordinated use of transmission facilities under the FPA because it “has no `system' of its own in the United States on which its exports of power could have a reliability, fuel use or stability impact.” See App. at 4-5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Manitoba Hydro's application to export electric energy to Canada should be clearly marked with OE Docket No. EA-281-C. Additional copies are to be provided directly to Michael Douglas, 360 Portage Avenue, Winnipeg, Manitoba, Canada R3C 0G8; midouglas@hydro.mb.ca; Jesse Halpern, 1909 K Street NW, Suite 600, Washington, DC 20006; jhalpern@thompsoncoburn.com; and Nicole S. Allen, 1909 K Street NW, Suite 600, Washington, DC 20006; nallen@thompsoncoburn.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on August 18, 2020.
Christopher Lawrence,
Management and Program Analyst, Transmission Permitting and Technical Assistance, Office of Electricity.

[FR Doc. 2020-18381 Filed 8-20-20; 8:45 am]

BILLING CODE 6450-01-P